DEPARTMENT OF ENERGY

Federal Energy Regulatory Commission

[Docket No. CP17-19-000]

Valley Crossing Pipeline, LLC; Notice of Schedule for Environmental Review of the Border Crossing Project

On November 21, 2016, Valley Crossing Pipeline, LLC (Valley Crossing) filed an application in Docket No. CP17-19-000 pursuant to Section 3 of the Natural Gas Act seeking authorization and the issuance of a Presidential Permit to construct and operate certain natural gas transmission facilities for the purpose of exporting natural gas between the United States and Mexico. The proposed project is known as the Border Crossing Project (Project). The Project would deliver/export up to 2.6 billion cubic feet per day of natural gas to Mexico to serve electrical generation plants.

On December 2, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA June 30, 2017.

90-day Federal Authorization Decision Deadline September 28, 2017.

If a schedule change becomes necessary, additional notice will be provided so that the relevant agencies are kept informed of the Project's progress.

Project Description

Valley Crossing proposes to construct and operate an approximately 1,000-foot-long, 42-inch-diameter, natural gas transmission pipeline segment across the international boundary between the United States and Mexico that is under the Commission's jurisdiction. The Border Crossing Project would connect the non-jurisdictional Valley Crossing System with the Mexican Marina Pipeline. The international boundary crossing would occur in Texas state waters, approximately 30 miles east of Brownsville, Texas.

Background

On January 27, 2017, the Commission issued a Notice of Intent to Prepare an Environmental Assessment for the Proposed Border Crossing Project and Request for Comments on Environmental Issues (NOI). The NOI was sent to federal, state, and local government agencies; elected officials; and other interested parties. In response to the NOI, commenters expressed concerns regarding water quality, methane pollution, aquatic/marine life including threatened and endangered species, pipeline integrity, climate change, and cumulative impacts.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP17-19), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 9, 2017.
Kimberly D. Bose,
Secretary.

[FR Doc. 2017-12392 Filed 6-14-17; 8:45 am]

BILLING CODE 6717-01-P